DEPARTMENT OF TRANSPORTATION

Federal Railroad Administration

[Docket Number FRA-2025-0059]

Petition for Waiver of Compliance; Extension of Comment Period

AGENCY: Federal Railroad Administration (FRA), Department of Transportation (DOT).

ACTION: Notice; Extension of comment period.

SUMMARY: This document extends the period for public comment regarding the Association of American Railroads' (AAR) petition for relief from certain regulations concerning track inspections.

DATES: FRA must receive comments on the petition by July 9, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Yujiang Zhang, Staff Director, FRA Track & Structures Division, telephone: 202-493-6460, email: yujiang.zhang@dot.gov.

SUPPLEMENTARY INFORMATION: On May 9, 2025, FRA published notice ¹ that AAR, on behalf of its members, petitioned FRA for a waiver of compliance from 49 CFR 213.233(b) and (c), Visual track inspections, which specifies the method and frequency in which railroads must conduct visual track inspections. FRA assigned the petition Docket Number FRA-2025-0059.

¹ https://www.regulations.gov/document/FRA-2025-0059-0002.

On May 13, 2025, the Brotherhood of Maintenance of Way Employes Division,² and on May 14, 2025, the Transportation Trades Department, AFL-CIO,³ requested that FRA extend the comment period on this petition. Through this notice, FRA is extending the comment period for an additional 30 days (until July 9, 2025).

² https://www.regulations.gov/document/FRA-2025-0059-0003.

³ https://www.regulations.gov/document/FRA-2025-0059-0004.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by July 9, 2025, will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-09282 Filed 5-22-25; 8:45 am]

BILLING CODE 4910-06-P